DEPARTMENT OF STATE

[Public Notice 4867]

Announcement of Meetings of the International Telecommunication Advisory Committee

Summary: The International Telecommunication Advisory Committee will meet in November to prepare positions for the next meeting of Study Groups 9 and 15 of the International Telecommunication Union Telecommunication Standardization Sector. Members of the public will be admitted to the extent that seating is available, and may join in the discussions, subject to the instructions of the Chair.

The International Telecommunication Advisory Committee (ITAC) will meet on Monday, November 15, 2004, 10 a.m. until 4 p.m. at the offices of Communication Technologies, Inc. (COMTek), 14151 Newbrook Dr., Ste. 400, Chantilly, VA 20151 to prepare for the next meetings of ITU-T Study Groups 15 and 9. People desiring to attend the meeting should give their name and organization not later than November 11 to Marcie Geissinger (marcie.g@comcast.net or (303) 499-2145). A conference bridge will be provided for the second part of the meeting addressing SG9 preparations. Directions to the meeting location and conference bridge information may be obtained by calling the ITAC Secretariat at (202) 647-2593.

Dated: October 21, 2004.
Cecily Holiday,
Director, ITU Radiocommunication Sector Affairs, International Communications & Information Policy, Department of State.

[FR Doc. 04-24133 Filed 10-26-04; 8:45 am]

BILLING CODE 4710-45-P